DEPARTMENT OF EDUCATION

[Docket No. ED-2012-ICCD-0071]

Agency Information Collection Activities; Comment Request; Study of Implementation and Outcomes in Upward Bound and Other TRIO Programs

AGENCY: Department of Education (ED), IES/NCES.

ACTION: Notice.

SUMMARY: In accordance with the Paperwork Reduction Act of 1995 (44 U.S.C. chapter 3501 et seq.), ED is proposing a new information collection.

DATES: Interested persons are invited to submit comments on or before February 22, 2013.

ADDRESSES: Comments submitted in response to this notice should be submitted electronically through the Federal eRulemaking Portal at http://www.regulations.gov by selecting Docket ID number ED-2012-ICCD-0071 or via postal mail, commercial delivery, or hand delivery. Please note that comments submitted by fax or email and those submitted after the comment period will not be accepted. Written requests for information or comments submitted by postal mail or delivery should be addressed to the Acting Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of Implementation and Outcomes in Upward Bound and other TRIO Programs.

OMB Control Number: 1850—NEW.

Type of Review: New information collection.

Respondents/Affected Public: Not-for-profit institutions.

Total Estimated Number of Annual Responses: 274.

Total Estimated Number of Annual Burden Hours: 183.

Abstract: This Upward Bound (UB) study, sponsored by the U.S. Department of Education, focuses on the implementation strategies of all regular UB projects. To do so, project directors will be asked to complete a 40 minute survey. This survey will serve two main purposes—to describe the services and strategies that Upward Bound grantees implement and to provide input into the decision-making process to identify a strategy to test as part of a random assignment demonstration. The grantee survey will be conducted with all 820 regular Upward Bound projects in the spring of 2013. Preliminary results from the survey, which will be shared internally within ED in late Spring 2013, will help inform the selection of a yet-to-be determined promising strategy or strategies for a possible experimental study that could be implemented in a set of UB grantees. ED will decide whether to exercise the option for a study of promising strategies in Upward Bound by June 2013, based, in large part, on the findings from the survey of UB grantees.

Dated: December 17, 2012.
Stephanie Valentine,
Acting Director, Information Collection Clearance Division, Privacy, Information and Records Management Services, Office of Management.

[FR Doc. 2012-30735 Filed 12-21-12; 8:45 am]

BILLING CODE 4000-01-P